ADMINISTRATIVE COMMITTEE OF THE FEDERAL REGISTER

1 CFR Chapter I

[RIN 3095-AB84]

Revision of Regulations

AGENCY: Administrative Committee of the Federal Register.

ACTION: Proposed rule.

SUMMARY: The Administrative Committee of the Federal Register proposes to update its regulations for the Federal Register system to clarify certain policies and to reflect current procedures and technological advances. This proposal would also revise the regulatory text to make it more readable and consistent with plain language principles.

DATES: Comments must be received on or before December 29, 2014.

ADDRESSES: You may submit comments, identified using the subject line of this document, by any of the following methods:

• Federal eRulemaking Portal: http://www.regulations.gov. Follow the instructions for submitting comments.

• Email: Fedreg.legal@nara.gov. Include the subject line of this document in the subject line of the message.

• Mail: The Office of the Federal Register (F), The National Archives and Records Administration, 8601 Adelphi Road, College Park, MD 20740-6001.

• Hand Delivery/Courier: Office of the Federal Register, 800 North Capitol Street NW., Suite 700, Washington, DC 20002.

Docket materials are available at the Office of the Federal Register, 800 North Capitol Street NW., Suite 700, Washington, DC 20002, 202-741-6030. Please contact the persons listed in the FOR FURTHER INFORMATION CONTACT section to schedule your inspection of docket materials. The Office of the Federal Register's official hours of business are Monday through Friday, 8:45 a.m. to 5:15 p.m., excluding Federal holidays.

FOR FURTHER INFORMATION CONTACT: Amy P. Bunk, Director of Legal Affairs and Policy, or Miriam Vincent, Staff Attorney, Office of the Federal Register, at Fedreg.legal@nara.gov, or 202-741-6030.

SUPPLEMENTARY INFORMATION:

Background and Purpose

Under the Federal Register Act (FRA or the Act), (44 U.S.C. Chapter 15), the Administrative Committee of the Federal Register (Administrative Committee) is responsible for issuing regulations governing Federal Register publications. The Administrative Committee has general authority under 44 U.S.C. 1506 to determine the manner and form for publishing the Federal Register and its special editions. The last major revision of Title 1 Chapter I of the Code of Federal Regulations (CFR) was completed November 4, 1972 (37 FR 23602). Because of technological advances in the printing and publication industry, the Administrative Committee intends to update chapter I in its entirety. This action does not represent an increase in the burdens on agencies or the public.

Many of the changes proposed are technical in nature and will bring the regulations in line with the Office of the Federal Register (OFR) document management system and other technologies not available in the early 1970s. The Administrative Committee is also updating the text of many sections to meet plain language principles and to further the goals of the President's memorandum on Transparency and Open Government. (74 FR 4685, January 26, 2009).

Proposed changes to 1 CFR chapter I are highlighted as follows:

Proposed Changes to Parts 1 and 2

Parts 1 and 2 would be combined to follow OFR guidance that parts should not contain only one section. In § 1.2, we would add a definition for the term “Director” to mean the Director of the Federal Register. Other proposed changes to part 1 include updating the OFR's mailing address and clarifying that materials appearing in the daily Federal Register or special editions of the Federal Register, with the exception of the National Archives and Records Administration's official seal and OFR logos, may be reproduced. See 36 CFR part 1200.

Proposed Changes to Parts 3, 5, 6 and 8

Many of the changes to these sections would be technical in nature, bringing the regulations in line with current technologies used at the OFR to carry out its mission. For example, §§ 3.1 and 3.2 include proposed language addressing where readers can access information online.

Proposed section 3.1 states that the Director of the Federal Register administers the format and availability of the OFR.gov Web site. Proposed section 3.2 specifies that documents placed on public inspection are posted online. The proposed regulation makes clear that the official public inspection version of the document is filed at the OFR and that the actual date and time of official filing is the point in time when the document is available at the OFR. It also clarifies that the online public inspection desk is only updated during official office hours.

Sections 3.3 and 3.4 would be added to consolidate the regulations on ancillaries and indexes to the Federal Register (§ 3.3) and the Code of Federal Regulations (§ 3.4), currently set out in other parts. This consolidation would allow us to remove part 6, which currently deals with ancillaries and indexes to the daily Federal Register. It contains five regulations dealing specifically with a daily Federal Register Index (§ 6.1), a yearly cumulative Federal Register Index (§ 6.2), daily and monthly lists of parts and sections affected by rules published in the Federal Register (§§ 6.3 and 6.4), and a general section allowing the Director discretion to publish other indexes, digests, and guides, as needed (§ 6.5). The Administrative Committee believes that consolidating these sections into one general section allows the Director greater flexibility to publish user aids at a time when most users rely on the online version of the daily Federal Register.

This proposed consolidation would also allow us to remove §§ 8.4 and 8.5, which deal with ancillaries and indexes to the CFR. These proposed changes allow readers to quickly find information on user aids in one part entitled “SERVICES TO THE PUBLIC” (part 3) instead of searching the entire chapter to find this information.

The Committee proposes to revise § 5.9, entitled “Categories of documents.” The Committee created these categories to provide greater clarity under the FRA. These categories, which will correspond to sections in the daily Federal Register, are not intended as a determination as to a document's legal status.

The Committee proposes to revise § 5.9 to clarify what types of documents are published in which categories of the daily Federal Register. To do this, the Committee is proposing to add a new category to the daily Federal Register as set out in § 5.9(d) and revise the list of documents types that publish in the Rules and Regulations category of the daily Federal Register. Certain types of documents that are currently required to be published in the Rules and Regulations category would be published in this new category of the daily issue, which would be called “Regulatory Notices.” The Regulatory Notices category would include documents containing Regulation Identifier Numbers (RINs) that do not amend the CFR; Paperwork Reduction Act notices; statements of organization and function; and announcements of public meetings, Sunshine Act notices, other meeting notices that are related to specific agency regulations and rulemaking actions; and general policy statements concerning regulations.

The Committee believes that adding a new category to the daily Federal Register will alleviate confusion regarding where documents will publish in the daily Federal Register and allow documents to be processed for publication more quickly. The Committee also believes that creating this category falls in line with current data-harmonization efforts across the federal government by providing a specific Federal Register category for these types of documents.

The Committee also proposes to revise §§ 5.10 and 8.6, which discuss the official formats of the Federal Register and the CFR. Currently, both sections specifically identify the formats that are official formats of both the Federal Register and the CFR. Setting out the official formats within the CFR makes it difficult to keep pace with the rapidly changing technological developments in publishing. Therefore, the Committee is proposing to remove the list of official formats from the CFR in favor of regulations that describe in detail the factors the Committee uses to determine what is an official format of these publications. Once the Committee determines the formats of these publications that are official, based on the factors set out in the regulations, the Committee will publish a Notice in the Federal Register announcing those official formats.

The Committee has determined that it may announce official formats in a published Notice rather than codify them in the CFR, and that it may do so without seeking public comment. In 1996, through final rule with request for comments, the Committee chose to specify the official formats in the CFR.¹ The Committee noted in a later rule that “granting official status” of a format is a “procedural matter” and does “not . . . materially [affect] rights or obligations.” ² Consistent with that determination, the Committee has concluded that it is unnecessary for future designations of official format to be subject to public comment or codified in the CFR because such designations are rules of agency procedure and practice. See 5 U.S.C. 553(b)(A). The Committee believes that the Administrative Procedure Act's general requirement for rulemaking requires that the Committee codify the procedural requirements for determining an official format but does not require that the actual format be included within the CFR.

¹ “[T]he Administrative Committee is updating its regulations to acknowledge the official status and availability of the Administrative Committee's online editions of the Federal Register and The United States Government Manual. The Administrative Committee has resolved that the American public should have greater access to essential information on the structure, functions and actions of its Government through the Federal Register system.” 61 FR 68118 (December 27, 1996).

² 65 FR 8841, 8842 (February 23, 2000).

Currently, § 8.3(c) requires that all rule documents amending the CFR be included in the annual soft-bound version of the CFR, even if the amendments to the CFR are not yet effective. In other words, a document amending the CFR that is published before July 1st (the publication date of the annual CFR volume) but is not effective until July 7th appears in the printed edition in a smaller font along with the currently effective regulation. While this practice was intended to alert readers to future changes in CFR text, displaying parallel codified text could sometimes be confusing.

Now that there is an unofficial Electronic Code of Federal Regulations (e-CFR) that displays the current text of the CFR and links readers to pending Federal Register amendments, users have less need for future-effective amendments in printed editions. The proposed change to § 8.3(c) would eliminate potential confusion by providing that only the regulation currently in effect as of the date of publication of the soft-bound volume will be published in that volume.

Other proposed changes to part 5 and part 8 not specifically mentioned in this preamble are technical in nature; they clarify requirements for publication in the Federal Register system and reformat sections to aid in the readability of this chapter.

Proposed Changes to Parts 11 and 12

The Administrative Committee proposes changing the language of parts 11 and 12 to be more concise and clear and to meet the goals of the President's transparency memorandum. In addition to these technical edits, the Committee proposes substantive changes to part 12. To fulfill the requirements of the Act, this part, entitled “OFFICIAL DISTRIBUTION WITHIN FEDERAL GOVERNMENT,” sets out the number of official copies of Federal Register publications that various Federal government entities are entitled to receive. Specifically, §§ 12.1 and 12.2 address the number of printed copies of the Federal Register and the CFR available to Federal entities without charge. The Administrative Committee believes that publishing both these publications in a free, electronic-only format to Federal officials for their official use constitutes the distribution of the Federal Register and the CFR for official use without charge. However, the OFR will continue to provide one soft-bound copy of the Federal Register and CFR to Federal officials upon a written request to the Director. The proposed changes to parts 11 and 12 will not change the page rate charged to agencies to publish documents in the Federal Register and CFR. The Administrative Committee intends that an official online version of both publications will remain available to both the public and Federal officials.

Additionally, the Administrative Committee proposes to remove § 12.4. Section 12.4 establishes the number of printed copies of the Weekly Compilation of Presidential Documents (Weekly Compilation) available to Federal entities without charge. The Administrative Committee would remove and reserve this section because the Committee discontinued the publication of the Weekly Compilation in January 2009 and has received no negative feedback from Federal entities that previously received a printed copy of this publication (See 74 FR 3950, January 21, 2009). The Committee also believes that providing the Daily Compilation of Presidential Documents (Daily Compilation) online meets the requirement of the FRA that publications such as the Daily Compilation be distributed for official use without charge.

Proposed Changes to Part 15

The Administrative Committee proposes to amend part 15 to remove § 15.1, concerning OFR assistance, because it duplicates the requirements in current §§ 15.3 and 15.10. In this document, the Committee proposes to redesignate current §§ 15.2, 15.3 and 15.10 as §§ 15.1, 15.2, and 15.3 respectively, and to make certain technical and clarifying changes to each redesignated section. Finally in part 15, the Committee proposes to remove § 15.4 because agencies no longer request reproduction and certification of copies of acts or documents from the OFR.

Proposed Changes to Part 16

In § 16.2, the Administrative Committee proposes to add a new paragraph (b) requiring agencies to provide the OFR and officials at their agencies specific information for continuity of operations (COOP) purposes. Over the past several years, Federal agencies have developed contingency plans to maintain operations in the case of a broad range of emergency circumstances. The FRA authorizes the President to activate the Emergency Federal Register (EFR) system in place of the daily Federal Register in certain limited circumstances. (See 44 U.S.C. 1505(c) and E.O. 12656, as amended (http://www.archives.gov/Federal-register/executive-orders/1988.html)). The purpose of the EFR is to support the preservation of the rule of law and a constitutional form of government, following National Security Presidential Directive-51/Homeland Security Presidential Directive-20 (https://www.hsdl.org/?view&did=476323).

Under almost all types of emergencies, the OFR would continue to carry out its basic functions at alternate locations. Therefore, this proposed change to § 16.2 would require agencies to provide the Director of the Federal Register with the names of liaison officers who are agency officials authorized to act for the agency in the event of an emergency (COOP liaisons). It also would require liaison officers to provide these officials with information on drafting and submitting documents to the OFR in emergency situations. These COOP liaisons would be responsible for certifying to OFR staff that documents in their possession are official agency actions, signed and authorized for publication. These officers would maintain custody of original documents, unedited or otherwise unchanged in a safe location during an emergency, and submit original documents to the OFR as soon as practicable. This change would allow OFR and the agencies to facilitate information exchange in the event of an emergency that closes the OFR office in Washington, DC. The OFR has posted online a Federal Register Bulletin with information on submitting documents when its Washington, DC office location is closed in an emergency. The Bulletin can be found online at http://www.archives.gov/Federal-register/write/newsletter/. The Administrative Committee believes that this proposed change to its regulations would provide the mechanisms to allow the OFR to publish the Emergency Federal Register under emergency circumstances.

Proposed Changes to Part 17

Most of the proposed changes to part 17 are non-substantive and technical in nature. They update the language of the sections in an effort to make the regulations more understandable. They also make minor formatting changes to the sections. One substantive change the Administrative Committee proposes is to remove paragraph 17.2(d). This proposed change would discontinue the long-standing practice of placing meeting notices issued under the “Government in the Sunshine Act” on immediate public inspection and publishing them on an expedited (2-day) publication schedule. Most agencies submit these notices for publication well in advance and do not need the expedited filing. If an agency does need a shorter filing period, it can use the emergency procedures in part 17, subpart C. The underlying policy for this unique publication schedule for Sunshine Act meeting notices was established at a time when filing a document for public inspection simply required the OFR to put a paper copy on the table at the OFR.

Proposed Changes to Part 18

Sections 18.1, 18.4, and 18.10

In §§ 18.1 and 18.4, the Administrative Committee proposes to remove footnotes requesting that agencies wishing to submit computer processed data contact the OFR staff. In the 20 years since this section was last amended, the submission of electronic files has become routine and these footnotes are no longer necessary.

In addition to removing footnotes from §§ 18.1 and 18.4, the Administrative Committee also proposes removing language related to the specific format of original documents submitted in hard copy from § 18.4 and § 18.10. Section 18.10 currently requires that illustrations, tabular materials, and forms be submitted for publication by a legible reproduction on 8½ by 11-inch paper. The OFR is now able to accept illustrations, tabular materials, and forms imbedded in electronically submitted files or as part of an original document. Therefore, the Administrative Committee is proposing to revise this section to require that the submitted form or illustration be legible when reproduced in an 8½- by 11-inch format instead of requiring that agencies submit a legible reproduction themselves. Agencies with questions related to the submission of documents with forms, graphics, tables, or illustrations should contact the editorial staff of the OFR.

Section 18.2

In § 18.2, the Committee proposes to clarify that the Director will not accept for publication a document if it seeks to combine material that must appear under separate categories in the Federal Register, as set forth in § 5.9. For example, documents may not serve as both rules and proposed rules nor may they serve as rules and notices. Agencies are not prohibited from discussing their commitments under specific statutes or Executive Orders, including periodic regulatory review.

Section 18.5

Under this proposal, § 18.5 would be removed. This section merely states the explicit statutory requirement that agencies submit certified copies or duplicate originals when they submit an original document for publication in the Federal Register. That requirement is already addressed in § 18.1.

Section 18.8

The Administrative Committee proposes to remove § 18.8. This section states that agencies may put their seal on original documents and certified copies submitted for publication. Since very few agencies put their seal on documents submitted for publication and because it is not a requirement for submission of documents to the OFR for publication, the Administrative Committee believes that this section is unnecessary and should be removed.

Section 18.11

The Administrative Committee proposes to add new section § 18.11. By adding the requirement that all documents contain standard headings, and not just rules and proposed rules (as discussed in § 18.12), the content that had been in § 21.16(a) also applies to all documents, so appropriately belongs in part 18. The Administrative Committee proposes to add a paragraph to account for agency docket numbers and Regulation Identifier Numbers (RINs), as applicable. A RIN is a code assigned by the Regulatory Information Service Center. Documents that are related to such regulatory actions, including Regulatory Notice documents, can carry a RIN.

Section 18.12

Currently, agencies are only required to submit rules and proposed rules using a standardized preamble format. The Administrative Committee proposes to revise § 18.12 to require that agencies submit all documents for publication using the standardized preamble format. Publishing unorganized notice documents without informative headings and guideposts can make vital information difficult to find. For example, advisory committee meeting notices, information collection requests, and grant announcements can be confusing if written in an unorganized manner, without the informative headings and distinct paragraphs that alert readers to comment opportunities, meeting dates, contact information, addresses, and document identification numbers. Requiring preambles for all notice documents will increase public understanding by clearly setting out essential elements of documents that alert readers to various agency actions. This provision will not affect the many agencies that already voluntarily use the standardized preamble format for notices.

Section 18.13

The advent of the online public inspection desk greatly expanded public access to the documents filed for public inspection as required by 44 U.S.C. 1503 and 1504, but it also added technical complexities to the production process. When agencies withdraw or modify documents already placed on public inspection, they disrupt production and increase costs as the Federal Register is reassembled and repaginated. Therefore, the Administrative Committee is proposing to revise § 18.13 to more narrowly specify when agencies may withdraw and correct documents on public inspection.

The proposed changes in this section would clarify that documents can be withdrawn or modified only when agencies submit a timely letter stating that the document is being withdrawn to address an emergency or to prevent a violation of law. This proposal does not change the requirement that the withdrawal request letter stay on public inspection through the day on which the document would have been published in the Federal Register. However, it would change OFR procedure so that a withdrawn document will be removed from public inspection on the business day on which the document was withdrawn from publication. The revised regulation will continue to require that the OFR provide public notice that a document was withdrawn from publication after being filed for public inspection, but will eliminate possible confusion concerning which documents will be published in the daily Federal Register.

Also, the proposed changes to § 18.13 would clarify that, even with a written request, the OFR will correct or withdraw documents on public inspection only when the request does not impose a burden on the production of the Federal Register. The proposed changes also provide that corrected documents and the request letters will remain on public inspection until the end of the business day on which the corrections were made to the document.

Section 18.17

The Administrative Committee proposes to revise § 18.17 to add a new paragraph (e). This new paragraph explicitly states that in order to extend the effective period of a temporary rule, agencies must submit a document extending the effective date of that rule before the expiration of the original effective date. The Committee reminds agencies that once the effective date of a temporary rule expires, the provisions of § 18.16 apply, and they must then set out the full text of the temporary rule to reinstate it.

Proposed Changes to Part 19

Part 19, which is based on several Executive Orders, has been amended to reflect changes to those Orders made by E.O. 13403 (71 FR 28543, May 12, 2006). The Administrative Committee proposes to revise the current authority citation for part 19 and the regulations in this part to reflect the addition of this Executive Order.

Proposed Changes to Part 20 and Addition of New Part 24

The United States Government Manual (Manual) regulations in part 20 are proposed to be redesignated as new part 24. The redesignation would separate instructions for Manual submissions from Federal Register drafting requirements.

As the OFR develops a new electronic format for both the submission of agency information and the publication format of the Manual, the Administrative Committee proposes to redesignate § 20.7 and revise the new § 24.7 to remove references to print-specific publication deadlines because the Manual will be a currently updated online publication. This will allow agencies to provide updated information through an electronic web-based submission process whenever information in the Manual needs to be updated. Submission of updated information through an OFR web-based submission portal will qualify as an official draft under § 24.2.

Proposed Changes to Part 21

The proposed changes to part 21 include reformatting the entire part to eliminate undesignated center headings. The Administrative Committee believes that undesignated center headings are no longer useful or needed since most users read the CFR online instead of in book format. Thus, the Administrative Committee proposes that part 21 be formatted as set out below, and that the section headings be revised to provide information formerly in the undesignated center headings.

While the Administrative Committee is proposing to remove undesignated center headings from our regulations, we understand that some agencies still use them. Therefore, the Administrative Committee proposes to add a new definitions section (§ 21.1) to define terms used within this part that are not common, namely, the terms “undesignated center headings,” and “words of issuance.”

Sections 21.6 and 21.9

In § 21.6, the Administrative Committee proposes to add the phrases “or by court order” and “a rule document” to clarify that if a court vacates an agency's regulations, the issuing agency must remove those vacated CFR sections by publishing a document in the rules section of the daily Federal Register, thus implementing the court order.

Section 21.9

In § 21.9, the Administrative Committee proposes to codify the existing practice that agencies may use undesignated center headings.

Section 21.11

The Administrative Committee proposes to revise § 21.11 to limit paragraph designations to four levels. Most agencies do not designate paragraphs below level four because it is difficult to read sections with material designated below this level. The Administrative Committee believes that codifying this practice in this section adds to the readability and clarity of the entire CFR. Agencies with existing CFR sections containing paragraph designations to six levels do not need to restructure a six-level section until the entire section is revised.

Section 21.14

The Administrative Committee proposes to revise § 21.14 to clarify the procedures and timeframe for agencies to request deviations from the standard format of the CFR. Under 44 U.S.C. 1510, the Administrative Committee is charged with issuing regulations to maintain the orderly codification of regulations within the Federal Register publication system. To ensure the orderly development of the CFR, the Administrative Committee issued regulations in title 1 chapter I of the CFR. The Administrative Committee understands that sometimes it is not possible to maintain the single codification structure, so it issued a regulation that established the procedure for agencies to request that certain regulatory provisions be codified in a nonstandard manner into the CFR. See 1 CFR 21.14.

The Administrative Committee proposes to revise § 21.14 to add more time for the Director and OFR staff to review requests for a deviation from the standard CFR structure and also to remove language that suggests that an agency could only make a request at the final rule stage of the rulemaking process. The Administrative Committee believes that these slight changes will provide the OFR needed time to review requests and will allow greater communication between OFR and agencies during the initial phase of the rulemaking process so that codification issues can be discussed and settled before the final rule stage.

Section 21.16

The Administrative Committee proposes to move the content of paragraph (a) to new § 18.11, as discussed in the summary for part 18.

Sections 21.21 and 21.23

The Administrative Committee is proposing to revise § 21.21 on cross references to make clear the distinction between cross references within an agency's own regulations (§ 21.21) and cross references to another agency's regulations (§ 21.23). The Administrative Committee considers these proposed changes structural in nature. They are intended to clarify current requirements. There is no intent to change substantively an agency's ability to cross-reference under these regulations. The Administrative Committee also proposes to remove regulatory language addressing parallel citation of the CFR and Federal Register. The Administrative Committee agrees with OFR policy that does not allow Federal Register citations in codified CFR text. Appropriate citation in CFR text is to CFR sections only. Federal Register citations are appropriate for preambles of rulemaking documents.

Subpart B of Part 21

The Administrative Committee proposes to restructure the provisions found in subpart B of part 21. The proposed § 21.40 combines the provisions of the current §§ 21.40 and 21.51 without substantive changes and we are combining §§ 21.45 and 21.53 in the proposed § 21.44. Currently these two sets of provisions deal generally with authority citations and their form. The Administrative Committee believes that combining these two sets of general provisions will clarify basic authority citation requirements by placing all the general requirements together in two CFR sections, one for statutory and one for nonstatutory authorities. Additionally, this consolidation allows the Administrative Committee to make other usability changes, including redesignating, as § 21.45, the current § 21.42 regarding exceptions. The Administrative Committee believes that moving the exceptions provision to the end of the subpart allows the reader to understand the basic CFR requirements on authority citations before reading about exceptions.

Under this proposal, the current §§ 21.43 and 21.52 would be redesignated as §§ 21.42 and 21.43, respectively, to consolidate the numbering sequence of this subpart. When this subpart was initially developed there was a substantial gap in numbering to allow for additional sections. Over the past 30 years, no new sections have been added to this subpart so the Administrative Committee believes that renumbering the provisions to remove gaps is reasonable.

In addition to redesignating § 21.43 as § 21.42, the Administrative Committee proposes to revise this section so the broader requirements currently set out in paragraph (b) become paragraph (a) and the more specific requirements of this section become paragraph (b).

Proposed Changes to Part 22 and New Part 23

The Administrative Committee proposes to revise part 22 by removing sections related to publishing notice documents in the Federal Register and moving those sections to new part 23. The Administrative Committee believes that this change will clarify the distinction between the “Notices” and “Proposed Rules” sections of the daily issue of the Federal Register.

Regulatory Analysis

The Administrative Committee developed this proposed rule after considering numerous statutes and executive orders related to rulemaking. Below is a summary of the Committee's determinations after analysis of these statutes and executive orders with respect to this rulemaking proceeding.

Executive Orders 12866 and 13563

The proposed rule has been drafted in accordance with Executive Order 12866, section 1(b), “The Principles of Regulation” and Executive Order 13563 “Improving Regulation and Regulatory Review.” The Administrative Committee has determined that this proposed rule is a significant regulatory action as defined under section 3(f) of Executive Order 12866. The proposed rule has been submitted to the Office of Management and Budget under section 6(a)(3)(A) of Executive Order 12866.

Regulatory Flexibility Act

This proposed rule will not have a significant impact on small entities since it imposes no requirements on the public. Members of the public can access Federal Register publications for free through the Government Printing Office's Web site.

Federalism

This proposed rule has no federalism implications under Executive Order 13132. It does not impose compliance costs on state or local governments or preempt state law.

List of Subjects

1 CFR Part 1

Administrative practice and procedure.

1 CFR Part 2

Administrative practice and procedure, Authority delegations (Government agencies), Organization and functions (Government agencies).

1 CFR Part 3

Government publications, Organization and functions (Government agencies).

1 CFR Part 5

Administrative practice and procedure, Federal Register, Government publications.

1 CFR Part 6

Federal Register, Government publications.

1 CFR Part 8

Administrative practice and procedure, Code of Federal Regulations, Government publications.

1 CFR Part 11

Code of Federal Regulations, Federal Register, Government publications, Public Papers of Presidents of United States, United States Government Manual, Daily Compilation of Presidential Documents.

1 CFR Part 12

Code of Federal Regulations, Federal Register, Government publications, Public Papers of Presidents of United States, United States Government Manual, Daily Compilation of Presidential Documents.

1 CFR Part 15

Organization and functions (Government agencies).

1 CFR Part 16

Federal Register.

1 CFR Part 17

Federal Register.

1 CFR Part 18

Administrative practice and procedure, Federal Register.

1 CFR Part 19

Executive orders, Federal Register, Proclamations

1 CFR Part 20

United States Government Manual.

1 CFR Part 21

Administrative practice and procedure, Code of Federal Regulations, Federal Register.

1 CFR Part 22

Administrative practice and procedure, Federal Register.

1 CFR Part 23

Administrative practice and procedure, Federal Register.

For the reasons discussed in the preamble, under the authority at 44 U.S.C. 1506 and 1510, the Administrative Committee of the Federal Register, with the approval of the Archivist of the United States and the Attorney General, proposes to amend chapter I of title 1 of the Code of Federal Regulations as set forth below:

TITLE 1—General Provisions

CHAPTER I—ADMINISTRATIVE COMMITTEE OF THE FEDERAL REGISTER

SUBCHAPTER A—GENERAL

1. Revise part 1 to read as follows:

PART 1—GENERAL INFORMATION

Sec.
1.1 Scope and purpose.
1.2 Definitions.
1.3 Administrative Committee of the Federal Register.
1.4 Office of the Federal Register; location; office hours.
1.5 General authority of Director.
1.6 Authorized use.

Authority: 44 U.S.C. 1506; sec. 6, E.O. 10530, 19 FR 2709; 3 CFR, 1954-1958 Comp., p. 189; 1 U.S.C. 112, 113.

§ 1.1 Scope and purpose.

(a) This chapter sets forth the policies, procedures, and delegations under which the Administrative Committee of the Federal Register carries out its general responsibilities.

(b) A primary purpose of this chapter is to inform the public and government agencies of the nature and uses of Federal Register publications.

§ 1.2 Definitions.

Definitions of terms as used in this chapter:

Administrative Committee means the Administrative Committee of the Federal Register, as set forth in § 1.3 of this chapter.

Agency means an executive department, independent board, establishment, bureau, agency, institution, commission, or separate office of the administrative branch of the Government of the United States, whether or not within or subject to review by another agency, but not the legislative or judicial branches of the Government.

Director means the Director of the Federal Register.

Document means any Presidential proclamation or Executive order, and any order, regulation, rule, certificate, code of fair competition, license, notice, or similar instrument, issued, prescribed, or promulgated by a Federal agency.

Document having general applicability and legal effect means any document issued under proper authority prescribing a penalty or course of conduct, conferring a right, privilege, authority, or immunity, or imposing an obligation, and relevant or applicable to the general public, members of a class, or persons in a locality, as distinguished from named individuals or organizations.

Filing means making a document available for public inspection at the Office of the Federal Register and online during official business hours. The Office of the Federal Register files a document only after it has been received, processed, and assigned a publication date according to the schedule in part 17 of this chapter.

OFR is the Office of the Federal Register.

Regulation and rule have the same meaning.

§ 1.3 Administrative Committee of the Federal Register.

(a) The Administrative Committee includes:

(1) The Archivist, or Acting Archivist, of the United States, who is the Chairman;

(2) An officer of the Department of Justice designated by the Attorney General; and

(3) The Public Printer or Acting Public Printer.

(b) The Director serves as the Secretary of the Committee, including at all official proceedings and executive sessions of the committee.

(c) Any material required by law to be filed with the Committee, and any correspondence, inquiries, or other material intended for the Committee or that relate to Federal Register publications must be sent to the Director.

§ 1.4 Office of the Federal Register; location; office hours.

(a) The Office of the Federal Register (the Office) is an office of the National Archives and Records Administration.

(b) The Office is located in Washington, DC.

(c) The mailing address is: Office of the Federal Register (F), National Archives and Records Administration, 8601 Adelphi Road, College Park, MD 20740-6001.

(d) The courier or non-postal service delivery address is: The Office of the Federal Register, 800 North Capitol Street NW., Suite 700, Washington, DC 20002.

(e) Office hours are 8:45 a.m. to 5:15 p.m., Monday through Friday, except for official Federal holidays.

§ 1.5 General authority of Director.

(a) The Director is delegated authority to administer this chapter, the related provisions of the Federal Register Act, the pertinent provisions of other statutes, and any regulations issued pursuant to the Federal Register Act.

(b) The Director may return to the issuing agency any document submitted for publication in the Federal Register, or special editions of the Federal Register, if, in the Director's judgment, the document does not meet the minimum requirements of this chapter.

§ 1.6 Authorized use.

Any person may reproduce or republish any material appearing in any regular or special edition of the Federal Register, except as provided in 36 CFR part 1200, which restricts the use of the National Archives and Records Administration's official seals and stylized Office of the Federal Register logos.

PART 2—[REMOVED]

2. Remove part 2.

3. Revise part 3 to read as follows:

PART 3—SERVICES TO THE PUBLIC

Sec.
3.1 Information services.
3.2 Public inspection of documents.
3.3 Indexes and other ancillary guides to the Federal Register.
3.4 Indexes and other ancillary guides to the Code of Federal Regulations (CFR).

Authority: 44 U.S.C. 1506, 1510; sec. 6, E.O. 10530, 19 FR 2709; 3 CFR, 1954-1958 Comp., p. 189.

§ 3.1 Information services.

(a) The Office of the Federal Register (the Office) provides information concerning the publications described in this chapter and the original acts and documents filed with the Office of the Federal Register as time permits.

(b) The Director administers the format and availability of the OFR.gov Web site in accordance with the Federal Register Act and the related public information statutes of the United States.

(c) The Office will not summarize or interpret substantive text of any statute or document.

§ 3.2 Public inspection of documents.

(a) Documents filed with the Office of the Federal Register for publication are available for public inspection at 800 North Capitol Street NW., Suite 700, Washington, DC 20002 during the Office of the Federal Register office hours, unless the OFR has been relocated to the National Archives and Records Administration's continuity of operations facility, see § 1.4 of this chapter.

(b) Documents are filed for public inspection at least one business day before publication in the Federal Register.

(c) Each document has a notation of the day and hour when it was filed and made available for public inspection.

(d)(1) The legally controlling version of a public inspection document is the official record filed at the Office of the Federal Register.

(2) OFR posts a full-text version of the filed document to its public inspection Web site shortly after making the document publicly available at its office.

(3) The filed document reflects the date and time of the official filing, which is when the document is available to the public at the OFR's office in Washington, DC. The official filing time is indicated on the document with a date/time stamp. The online posting time may vary, depending upon server usage and other factors, so it may be later than the official filing.

(4) The OFR updates the online public inspection site during official office hours only.

§ 3.3 Indexes and other ancillary guides to the Federal Register.

OFR provides ancillary indexes, guides, digests, user aids, lists, and search tools to help the public access the contents of the Federal Register.

§ 3.4 Indexes and other ancillary guides to the Code of Federal Regulations (CFR).

(a) The OFR publishes a subject index to the CFR that is annually revised and separately published.

(b) Other ancillary indexes, guides, digests, user aids, lists, and search tools may be provided as the Director considers appropriate, such as a parallel table of authorities and rules, a parallel table of agency documents and rules, and the “List of CFR Sections Affected.”

(c) Agency-prepared indexes within CFR chapters may be published with the approval of the Director.

SUBCHAPTER B—THE FEDERAL REGISTER

4. Revise part 5 to read as follows:

PART 5—PUBLICATION AND DELIVERY

Sec.
5.1 Publication policy.
5.2 Documents required to be filed for public inspection and published.
5.3 Publication of other documents.
5.4 Publication not authorized.
5.5 Supplement to the Code of Federal Regulations.
5.6 Daily publication.
5.7 Distribution.
5.8 Form of citation.
5.9 Categories of documents.
5.10 Forms of publication.

Authority: 44 U.S.C. 1506, 1510; sec. 6, E.O. 10530, 19 FR 2709; 3 CFR, 1954-1958 Comp., p. 189.

§ 5.1 Publication policy.

(a) The Director publishes a serial publication called the Federal Register to contain the following:

(1) Executive orders, proclamations, and other Presidential documents.

(2) Documents required to be published by law.

(3) Documents accepted for publication under § 5.3 of this part.

(b) Each document required or authorized to be filed for publication will publish according to the schedules in part 17 of this chapter.

(c) In issuing regulations governing headings, preambles, effective dates, authority citations, and similar matters of form, the Administrative Committee does not affect the substance and validity of any document that is filed and published under law.

§ 5.2 Documents required to be filed for public inspection and published.

The following documents are required to be filed for public inspection with the Office of the Federal Register and published in the Federal Register:

(a) Presidential proclamations and Executive orders in the numbered series, and each other document that the President orders for publication.

(b) Each document or class of documents required to be published by act of Congress.

(c) Each document having general applicability and legal effect.

§ 5.3 Publication of other documents.

Whenever the Director determines that it is in the public interest to publish a document not covered by § 5.2 of this part, the Director may allow that document to be filed for public inspection with the Office of the Federal Register and published in the Federal Register to the extent that such publication is consistent with the Federal Register Act or otherwise authorized by law.

§ 5.4 Publication not authorized.

(a) Comments and news items will not be published in the Federal Register.

(b) The Director will not accept any document for filing and publication unless it is the official action of the submitting agency.

§ 5.5 Supplement to the Code of Federal Regulations.

The Federal Register serves as a daily supplement to the Code of Federal Regulations. Each document that is subject to codification and published in a daily issue is incorporated into the Code of Federal Regulations.

§ 5.6 Daily publication.

The daily Federal Register is published by the Office of the Federal Register each official Federal business day.

§ 5.7 Distribution.

The Government Printing Office will promptly distribute the Federal Register on each Federal business day. Monday editions of the Federal Register will be produced and distributed on the preceding Saturday.

§ 5.8 Form of citation.

Citations to the Federal Register within Federal Register documents must cite volume and page number, and use the short form “FR” for “Federal Register.” For example, “37 FR 6803” refers to material beginning on page 6803 of volume 37 of the daily issue.

§ 5.9 Categories of documents.

Each document published in the Federal Register will be placed under one of the following categories, as indicated:

(a) The President. This category contains each Executive order or Presidential proclamation and other Presidential documents or orders that the President submits for publication.

(b) Rules and regulations. This category contains documents having general applicability and legal effect, except those covered by paragraph (a) of this section, including documents subject to codification in the Code of Federal Regulations. It also includes interpretative rules and denials of petitions for rulemaking.

(c) Proposed rules. This category includes:

(1) Documents that propose changes to regulations in the Code of Federal Regulations; and

(2) Documents that begin a rulemaking proceeding through advance notices of proposed rulemaking, petitions for rulemaking, or similar agency actions.

(d) Regulatory notices. This category includes:

(1) Documents containing Regulation Identifier Numbers that do not amend the Code of Federal Regulations;

(2) General policy statements concerning regulations;

(3) Paperwork Reduction Act notices;

(4) Announcements of public meetings, Sunshine Act notices, and other meeting notices that are directly related to agency regulations; and

(5) Statements of organization and function.

(e) Notices. This category:

(1) Contains other documents applicable to the public and not covered by paragraphs (a), (b), (c), and (d) of this section; and

(2) Includes announcements of public meetings and other information of public interest.

§ 5.10 Forms of publication.

(a) The Administrative Committee determines the official formats of the Federal Register. During an official meeting of the Administrative Committee, the Committee will review a request from the Director of the Federal Register to authorize specific official formats of the Federal Register. Each request will be a separate determination by the Administrative Committee.

(b) Factors considered by the Administrative Committee when determining a specific official format include:

(1) Availability;

(2) Cost;

(3) Technical capabilities; and

(4) Permanence of public access to the current and historical content.

(c) The Administrative Committee will publish a notice in the Federal Register announcing the manner and form of official formats of the Federal Register.

PART 6—[REMOVED]

5. Remove part 6.

SUBCHAPTER C—SPECIAL EDITIONS OF THE FEDERAL REGISTER

6. Revise part 8 to read as follows:

PART 8—CODE OF FEDERAL REGULATIONS

Sec.
8.1 Policy.
8.2 Orderly development.
8.3 Periodic updating.
8.6 Forms of publication.
8.7 Agency cooperation.
8.9 Form of citation.

Authority: 44 U.S.C. 1506, 1510; sec. 6, E.O. 10530, 19 FR 2709; 3 CFR, 1954-1958 Comp., p. 189.

§ 8.1 Policy.

(a) The Director of the Federal Register periodically publishes a special edition of the Federal Register called the Code of Federal Regulations (CFR) containing each Federal regulation of general applicability and legal effect.

(b) The Administrative Committee intends to use every practical means to keep the CFR as current, complete, reliable, and readily usable as possible, within limitations imposed by reasonable costs.

§ 8.2 Orderly development.

(a) To ensure orderly development of the CFR along practical lines, the Director may establish new titles in the CFR and rearrange existing titles and subordinate assignments.

(b) Before taking an action under this section, the Director will consult with each agency directly affected by the proposed change.

§ 8.3 Periodic updating.

(a) Timeframe. (1) Each annual volume of the CFR is updated at least once each calendar year.

(i) If no change in its contents has occurred during the year, a simple volume cover notation to that effect may serve as the supplement for that year.

(ii) If no change in its contents has occurred during the year, a simple notation appearing online to that effect may serve as the supplement for that year.

(2) The Director may provide for any unit of the CFR to be updated as frequently as necessary to maintain a current, complete, and readily usable codification, consistent with the intent and purpose of the Administrative Committee as stated in § 8.1 of this part.

(b) Periodic publication. The annual edition of the CFR will be produced over a 12-month period under a publication system to be determined by the Director.

(c) Cutoff dates. Each updated title of the CFR will include each amendment to that title published in the Federal Register and effective as a codified regulation on or before the “As of” date. For example, each title updated as of July 1 each year will include all amendatory documents that appeared in the daily Federal Register and became effective on or before July 1.

§ 8.6 Forms of publication.

(a) The Administrative Committee determines the official format of the CFR. During an official meeting of the Administrative Committee, the Committee will review a request from the Director of the Federal Register to authorize specific official formats of the CFR. Each request will be a separate determination by the Administrative Committee.

(1) Factors considered by the Administrative Committee when determining a specific official format include:

(i) Availability;

(ii) Cost;

(iii) Technical capabilities; and

(iv) Permanence of public access to the current and historical content.

(2) The Administrative Committee will publish a notice in the Federal Register announcing the manner and form of official formats of the CFR.

(b) The Director is authorized to regulate the style and layout of the Code of Federal Regulations according to the needs of users and compatibility with the facilities of the Government Printing Office. The Director:

(1) May provide for the Code of Federal Regulations to be published in as many volumes as necessary; and

(2) Will oversee the organization and layout of the material in the online edition.

§ 8.7 Agency cooperation.

Each agency must cooperate in keeping publication of the CFR current by complying promptly with deadlines set by the Director.

§ 8.9 Form of citation.

Citations to the CFR within Federal Register documents must cite the CFR title and section using the short form “CFR.” For example, “1 CFR 10.2” refers to Title 1, Code of Federal Regulations, part 10, section 2.

SUBCHAPTER D—AVAILABILITY OF OFFICE OF THE FEDERAL REGISTER PUBLICATIONS

7. Revise part 11 to read as follows:

PART 11—SUBSCRIPTIONS

Sec.
11.1 Subscription by the public.
11.2 Federal Register.
11.3 Code of Federal Regulations.
11.5 Public Papers of the Presidents of the United States.
11.7 Federal Register Index.
11.8 LSA (List of CFR Sections Affected).

Authority: 44 U.S.C. 1506; sec. 6, E.O. 10530, 19 FR 2709, 3 CFR, 1954-1958 Comp., p. 189.

§ 11.1 Subscription by the public.

The Government Printing Office produces the paper edition of the publications described in § 2.5 of this chapter, and the Superintendent of Documents, Government Printing Office, Washington, DC 20402, sells them to the public. All fees are payable in advance to the Superintendent of Documents, Government Printing Office. They are not available for free distribution to the public.

§ 11.2 Federal Register.

(a) The subscription price for the paper edition of the daily Federal Register is $749 per year. A combined subscription to the daily Federal Register, the monthly Federal Register Index, and the monthly LSA (List of CFR Sections Affected) is $808 per year for the paper edition. Six-month subscriptions for the paper edition are also available at one-half the annual rate. Those prices exclude delivery costs. Delivery rates will be applied to orders according to the delivery method requested. The price of a single copy of the daily Federal Register, including delivery costs, is based on the number of pages: $11 for an issue containing less than 200 pages; $22 for an issue containing 200 to 400 pages; and $33 for an issue containing more than 400 pages.

(b) The online edition of the Federal Register, issued under the authority of the Administrative Committee, is available through the Government Printing Office's Web site.

§ 11.3 Code of Federal Regulations.

(a) The subscription price for a complete set of the Code of Federal Regulations is $1,019 per year for the bound, paper edition. Those prices exclude delivery costs. Delivery rates will be applied to orders according to the delivery method requested. The Government Printing Office sells individual volumes of the paper edition of the Code of Federal Regulations at prices determined by the Superintendent of Documents under the general direction of the Administrative Committee.

(b) The online edition of the Code of Federal Regulations, issued under the authority of the Administrative Committee, is available through the Government Printing Office's Web site.

§ 11.5 Public Papers of the Presidents of the United States.

Copies of annual clothbound volumes are sold at a price determined by the Superintendent of Documents under the general direction of the Administrative Committee.

§ 11.7 Federal Register Index.

The annual subscription price for the monthly Federal Register Index, purchased separately, in paper form, is $29. The price excludes delivery costs. Delivery rates will be applied to orders according to the delivery method requested.

§ 11.8 LSA (List of CFR Sections Affected).

The annual subscription price for the monthly LSA (List of CFR Sections Affected), purchased separately, in paper form, is $30. The price excludes delivery costs. Delivery rates will be applied to orders according to the delivery method requested.

8. Revise part 12 to read to read as follows:

PART 12—OFFICIAL DISTRIBUTION WITHIN FEDERAL GOVERNMENT

Sec.
12.1 Federal Register.
12.2 Code of Federal Regulations.
12.5 Public Papers of the Presidents of the United States.

Authority: 44 U.S.C. 1506; sec. 6, E.O. 10530, 19 FR 2709; 3 CFR, 1954-1958 Comp., p. 189.

§ 12.1 Federal Register.

(a) The Federal Register, issued under the authority of the Administrative Committee, is officially maintained online and is available on the Government Printing Office's Web sites.

(b) Copies of the daily Federal Register in paper will be made available to the following without charge:

(1) Members of Congress. Each Senator and each Member of the House of Representatives will be provided with one copy of each daily issue in response to a written request to the Director.

(2) Congressional committees. Each committee of the Senate and the House of Representatives will be provided with one copy for official use in response to a written request from the chairperson, or authorized delegate, to the Director.

(3) Supreme Court. The Supreme Court will be provided with one copy for official use in response to a written request to the Director.

(4) Other courts. Other constitutional or legislative courts of the United States will be provided with one copy for official use in response to a written request from the Director of the Administrative Office of the U.S. Courts, or authorized delegate, to the Director.

(5) Executive agencies. Each Federal executive agency will be provided with one copy for official use in response to a written request from the agency Federal Register authorizing officer, or the alternate, designated under § 16.1 of this chapter, to the Director.

(c) Requisitions for quantity overruns of specific issues to be paid for by the agency are available as follows:

(1) To meet its needs for special distribution of the Federal Register in substantial quantity, any agency may request an overrun of a specific issue.

(2) An advance printing and binding requisition on Standard Form 1 must be submitted by the agency directly to the Government Printing Office, to be received not later than noon on the Federal business day before publication.

(d) Requisitions for quantity overruns of separate part issues to be paid for by the agency are available as follows:

(1) Whenever the Director determines it to be in the public interest, one or more documents may be published as a separate part (that is, Part II, Part III) of the Federal Register.

(2) Advance arrangements for this service must be made with the Office of the Federal Register.

(3) Any agency may request an overrun of such a separate part by submitting an advance printing and binding requisition on Standard Form 1 directly to the Government Printing Office, to be received not later than 12 noon on the Federal business day before the publication date.

(e) An agency may order limited quantities of extra copies of a specific issue of the Federal Register for official use, from the Superintendent of Documents, to be paid for by that agency.

§ 12.2 Code of Federal Regulations.

(a)(1) The CFR, issued under the authority of the Administrative Committee, is officially maintained online and is available through the Government Printing Office's Web site.

(2) One copy of the CFR means one complete set of the annual paper edition of the codification of the general and permanent rules.

(b) Copies of the CFR in paper will be made available to the following without charge:

(1) Congressional committees. Each committee of the Senate and House of Representatives will be provided with one copy for official use in response to a written request to the Director from the committee chairperson, or authorized delegate.

(2) Supreme Court. The Supreme Court will be provided with one copy for official use in response to a written request to the Director of the Federal Register.

(3) Other courts. Other constitutional and legislative courts of the United States will be provided with one copy for official use in response to a written request to the Director from the Director of the Administrative Office of the U.S. Courts.

(4) Executive agencies. Each Federal executive agency will be provided with one copy for official use in response to a written request to the Director from the agency Federal Register authorizing officer, or the alternate, designated under § 16.1 of this chapter.

(c) Legislative, judicial, and executive agencies of the Federal Government may obtain additional copies of selected units of the CFR, at cost, for official use, by submitting a printing and binding requisition to the Government Printing Office on Standard Form 1 before the press run.

(d) After the press run, each request for extra copies of selected units of the CFR must be addressed to the Superintendent of Documents, to be paid for by the agency making the request.

§ 12.5 Public Papers of the Presidents of the United States.

(a) Copies of the Public Papers of the Presidents of the United States will be made available to the following without charge:

(1) Members of Congress. Each Senator and each Member of the House of Representatives will be provided with one copy of each annual publication published during the Member's term in office, in response to a written request to the Director.

(2) Supreme Court. The Supreme Court will be provided with 1 copy of each publication in response to a written request to the Director.

(3) Executive agencies. Each head of a Federal executive agency will be provided with one copy of each annual publication in response to a written request to the Director from the agency Federal Register authorizing officer, or the alternate, designated under § 16.1 of this chapter.

(b) Legislative, judicial, and executive agencies of the Federal Government may obtain additional copies, at cost, for official use, by submitting a printing and binding requisition to the Government Printing Office on Standard Form 1 before the press run.

(c) After the press run, each request for extra copies must be addressed to the Superintendent of Documents, to be paid for by the agency making the request.

SUBCHAPTER E—PREPARATION, TRANSMITTAL, AND PROCESSING OF DOCUMENTS

9. Revise part 15 to read to read as follows:

PART 15—SERVICES TO FEDERAL AGENCIES

Sec.
15.1 Information services.
15.2 Staff assistance.
15.3 Information on drafting and publication.

Authority: 44 U.S.C. 1506; sec. 6, E.O. 10530, 19 FR 2709; 3 CFR, 1954-1958 Comp., p. 189.

§ 15.1 Information services.

The Director of the Federal Register answers appropriate inquiries presented in person, by telephone, or in writing. Send written communications, including those involving the Administrative Committee, to the Director, Office of the Federal Register, National Archives and Records Administration, 8601 Adelphi Road, College Park, MD 20740-6001, telephone number: 202-741-6000. For delivery by courier, send communications to 800 North Capitol Street NW., Suite 700, Washington DC 20002. Send emails to fedreg.info@nara.gov.

§ 15.2 Staff assistance.

The staff of the OFR provides informal assistance and advice to officials of the various agencies with respect to general or specific programs of regulatory drafting, procedures, and promulgation practices. Communications related to unpublished documents remain confidential under § 17.1 of this chapter.

§ 15.3 Information on drafting and publication.

(a) The Director may prepare and distribute to agencies information and instructions on drafting documents for publication.

(b) The Director may develop and conduct programs of technical instruction.

10. Revise part 16 to read to read as follows:

PART 16—AGENCY REPRESENTATIVES

Sec.
16.1 Designation.
16.2 Liaison and COOP liaison duties.
16.3 Certifying duties.
16.4 Authorizing duties.

Authority: 44 U.S.C. 1506; sec. 6, E.O. 10530, 19 FR 2709; 3 CFR, 1954-1958 Comp., p. 189.

§ 16.1 Designation.

(a) Each agency must designate officers or employees of that agency to serve as Federal Register contacts. The same person may be designated to serve in one or more of these contact positions:

(1) A liaison officer and at least one alternate.

(2) A certifying officer and at least one alternate.

(3) An authorizing officer and at least one alternate.

(4) A COOP liaison officer and any alternates.

(b) In choosing its liaison officer, each agency should consider that this officer will be the main contact between that agency and the OFR and that the liaison officer will be charged with the duties set forth in § 16.2 of this part. The agency should choose a person who is directly involved in the agency's regulatory program.

(c) Each agency must notify the Director of the name, title, mailing address, telephone number, and email address of each person it designates under this section. Each agency must promptly notify the Director of any changes.

§ 16.2 Liaison and COOP liaison duties.

(a) Each agency liaison officer and alternate must:

(1) Represent the agency in all matters relating to the submission of documents to the OFR, and respecting general compliance with this chapter;

(2) Coordinate with their agency billing authority and ensure that the correct agency billing address code is included with each document submitted to the OFR for publication;

(3) Be responsible for the effective distribution and use within the agency of Federal Register information on document drafting and publication assistance authorized by § 15.3 of this chapter;

(4) Promote the agency's participation in the technical instruction authorized by § 15.3 of this chapter; and

(5) Be available to discuss documents submitted for publication with the editors of the Federal Register.

(b) For continuity of operations purposes, each agency must:

(1) Provide the Director with the names of agency officials authorized to act as liaisons during an emergency (COOP liaisons); and

(2) Ensure that the COOP liaisons designated under (b)(1) of this section know how to contact staff of the OFR and to draft and submit documents to the OFR.

(i) During an emergency, COOP liaisons will be responsible for:

(A) Certifying to OFR staff that documents in their possession are official agency actions, signed, and authorized for publication;

(B) Maintaining custody of original documents, unedited or otherwise unchanged in a safe location during an emergency; and

(C) Submitting original documents to the OFR as soon as practicable during an emergency.

(ii) [Reserved]

§ 16.3 Certifying duties.

The agency certifying officer is responsible for attaching the required number of true copies of each original document submitted by the agency to the OFR and for making the certification required by § 18.6 of this chapter.

§ 16.4 Authorizing duties.

The agency authorizing officer is responsible for furnishing to the Director a current mailing list of officers or employees of the agency who are authorized to receive the Federal Register and the Code of Federal Regulations.

11. Revise part 17 to read as follows:

PART 17—FILING FOR PUBLIC INSPECTION AND PUBLICATION SCHEDULES

Subpart A—Receipt and Processing
Sec.
17.1 Receipt and processing.
Subpart B—Regular Schedule
17.2 Procedure and timing for regular schedule.
Subpart C—Emergency Schedule
17.3 Criteria for emergency publication.
17.4 Procedure and timing for emergency publication.
17.5 Criteria for emergency filing for public inspection.
17.6 Procedure and timing for emergency filing for public inspection.
Subpart D—Deferred Schedule
17.7 Criteria for deferred schedule.

Authority: 44 U.S.C. 1506; sec. 6, E.O. 10530, 19 FR 2709; 3 CFR, 1954-1958 Comp., p. 189.

Subpart A—Receipt and Processing

§ 17.1 Receipt and processing.

(a) The OFR receives documents only during official business hours unless, in the judgment of the Director, the public interest is served by receiving a document at some other time.

(b) Upon receipt, each document is held for confidential processing until it is filed for public inspection.

Subpart B—Regular Schedule

§ 17.2 Procedure and timing for regular schedule.

(a) Each document received is filed for public inspection only after it has been received, processed, and assigned a publication date.

(b)(1) Each document received by 2:00 p.m. that meets the requirements of this chapter will be assigned to the regular schedule. Unless the issuing agency makes special arrangements otherwise, or the OFR determines that the document requires a deferred schedule (see § 17.7 of this part), we consider receipt of a document by 2:00 p.m. to be a request for filing for public inspection and publication on the regular schedule.

(2) Documents received after 2:00 p.m. that meet the requirements of this chapter will be assigned to the next Federal business day's regular schedule.

(c) The regular schedule for filing for public inspection and publication is found in Table 1 of this section. Where a legal Federal holiday intervenes, one additional business day is added.

Table 1
Received before 2:00 p.m. | Filed for public inspection | Published
Monday | Wednesday | Thursday.
Tuesday | Thursday | Friday.
Wednesday | Friday | Monday.
Thursday | Monday | Tuesday.
Friday | Tuesday | Wednesday.

Subpart C—Emergency Schedule

§ 17.3 Criteria for emergency publication.

The emergency schedule is designed to provide the fastest possible publication of a document involving the prevention, alleviation, control, or relief of an emergency situation.

§ 17.4 Procedure and timing for emergency publication.

(a)(1) Each agency requesting publication on the emergency schedule must briefly describe the emergency and the benefits to be attributed to immediate publication in the Federal Register.

(2) The request must be made by letter to the Director.

(b) The Director assigns a document to the emergency schedule whenever the Director agrees that there is a need for the document to publish outside of the regular publication schedule and it is feasible.

(c) Each document assigned to the emergency schedule is published as soon as possible.

(d) Each document assigned to the emergency schedule for publication will be filed for public inspection on the Federal business day before publication unless emergency filing for public inspection is also requested.

§ 17.5 Criteria for emergency filing for public inspection.

(a) An agency may request emergency filing for public inspection for documents to be published under the regular, emergency, or deferred publication schedules.

(b) Emergency filing for public inspection is considered a special arrangement under § 17.2 of this part that results in deviation from the regular schedule for filing for public inspection.

(c) A document receiving emergency filing for public inspection remains on public inspection until it is published according to the schedule for publication.

§ 17.6 Procedure and timing for emergency filing for public inspection.

(a)(1) Each agency requesting emergency filing for public inspection must briefly describe the emergency and the benefits to be attributed to immediate public access.

(2) The request must be made by letter to the Director.

(b) The Director approves an emergency filing for public inspection request whenever the Director agrees with the need for that action and it is feasible.

(c) Each document approved for emergency filing for public inspection is filed as soon as possible following processing and scheduling.

Subpart D—Deferred Schedule

§ 17.7 Criteria for deferred schedule.

(a) OFR staff may assign a document to the deferred schedule when a document meets one of the following conditions:

(1) Conditions exist that require extraordinary processing time. These conditions may exist if the document:

(i) Is lengthy;

(ii) Contains technical problems; or

(iii) Contains unusual or lengthy tables, or illustrations; or

(2) The issuing agency requests a deferred publication date.

(b) OFR staff notifies the agency if its documents must be assigned to a deferred schedule.

12. Revise part 18 to read as follows:

PART 18—PREPARATION AND TRANSMITTAL OF DOCUMENTS GENERALLY

Sec.
18.1 Original and copies required.
18.2 Prohibition on combined category documents.
18.3 Submission of documents and letters of transmittal.
18.4 Form of document. 18.5 [Reserved]
18.6 Form of certification.
18.7 Signature.
18.8 [Reserved]
18.9 Style.
18.10 Illustrations, tabular material, and forms.
18.11 Required document headings.
18.12 Preamble requirements.
18.13 Withdrawal or correction of filed documents.
18.15 Correction of errors in printing.
18.16 Reinstatement of expired regulations.
18.17 Effective dates and time periods.
18.20 Identification of subjects in agency regulations.

Authority: 44 U.S.C. 1506; sec. 6, E.O. 10530, 19 FR 2709; 3 CFR, 1954-1958 Comp., p. 189.

§ 18.1 Original and copies required.

Each agency submitting a document to be filed and published in the Federal Register must submit:

(a) An originally signed document; and

(b) Two duplicate signed originals or two certified copies, unless submitted under the terms of § 18.4(b) of this part.

§ 18.2 Prohibition on combined category documents.

(a) The Director will not accept a document for filing and publication if it seeks to combine regulatory material that must appear under separate categories in the Federal Register, as set forth in 1 CFR 5.9 of this chapter. For example, a document may not serve as both a rule and a notice of proposed rulemaking.

(b) When two related documents are to be published in the same Federal Register issue, the agency may insert a cross-reference in each document.

§ 18.3 Submission of documents and letters of transmittal.

(a) Each document authorized or required by law to be filed for public inspection with the OFR and published in the Federal Register must be sent to the Director.

(b) A letter of transmittal is required in cases involving special handling or treatment of documents submitted for publication.

§ 18.4 Form of document.

(a) A document in the form of a letter or press release will not be accepted for filing for public inspection or publication in the Rules and Regulations, Proposed Rules, Regulatory Notices, or Notices categories of the Federal Register.

(b) Original documents submitted electronically and authenticated by digital signatures that are consistent with applicable Federal standards and OFR technical specifications may be accepted for publication.

§ 18.5 [Reserved]

§ 18.6 Form of certification.

(a) Each paper copy of every document submitted for filing and publication under the terms of § 18.1(b) of this part, except a Presidential document or a duplicate original, must be certified as follows:

(Certified to be a true copy of the original)

(b) The certification must be signed by a certifying officer designated under § 16.1 of this chapter.

§ 18.7 Signature.

(a) The original and each duplicate original document must be signed in ink, with the name and title of the official signing the document typed or stamped beneath the signature.

(b) Initialed or impressed signatures will not be accepted.

(c) Documents submitted under § 18.4(b) of this part may be authenticated as original documents by digital signatures.

§ 18.8 [Reserved]

§ 18.9 Style.

Each document submitted by an agency for filing and publication should conform to the current edition of the U.S. Government Printing Office Style Manual in punctuation, capitalization, spelling, and other matters of style. The U.S. Government Printing Office Style Manual is available on the Government Printing Office's Web site.

§ 18.10 Illustrations, tabular material, and forms.

(a) If it is necessary to publish a form or illustration, a clear and legible original form or illustration must be included in the original document and each certified copy.

(b) A document that includes tabular material may be assigned to the deferred publication schedule. See § 17.7 of this subchapter.

§ 18.11 Required document headings.

(a) Each document submitted to the OFR must contain the following headings, when appropriate, on separate lines in the following order:

(1) Agency name;

(2) Subagency name;

(3) Numerical references to the title and parts of the CFR affected;

(4) Agency docket numbers and identification numbers in brackets (such as RINs), as applicable.

(5) Central information system identification numbers, as applicable.

(6) Brief subject heading describing the document.

§ 18.12 Preamble requirements.

(a) All documents submitted for publication must include a preamble that will inform the reader, who is not an expert in the subject area, of the basis and purpose for the rule or proposal, or a basic explanation of the notice document.

(b) The preamble must be in the following format and contain the following information:

AGENCY:

(Name of issuing agency.)

ACTION:

(Possible ACTION lines include: Notice, Advance notice of proposed rulemaking, Proposed rule, Rule, and Final rule.)

SUMMARY:

(Brief statements, in simple language, describing the action being taken, the circumstances which created the need for the action, and the intended effect of the action.)

DATES:

(Possible DATES include: Comments must be received on or before: _, Proposed effective date: _, Effective date: _, and Hearing: _.)

ADDRESSES

(Any relevant addresses.)

FOR FURTHER INFORMATION CONTACT:

(For Executive departments and agencies, the name, telephone number, and email address of a person in the agency to contact for additional information about the document.)

SUPPLEMENTARY INFORMATION:

(c) The agency may include the following information in the supplementary information section of the preamble, as applicable:

(1) A discussion of the background and major issues involved;

(2) In the case of a final rule, any significant differences between it and the proposed rule;

(3) A response to substantive public comments received;

(4) Any other information the agency considers appropriate; and

(5) Any determination or analysis required by law or order.

§ 18.13 Withdrawal or correction of filed documents.

(a) Withdrawing documents. (1) A document that has been filed for public inspection with the OFR but not yet published may be withdrawn from publication by the submitting agency only when the agency certifies that withdrawal is necessary to address an emergency or avert a violation of law.

(2) An agency requesting withdrawal of a document on file for public inspection must submit a timely letter signed by an authorized representative of the agency certifying that the withdrawal is necessary under paragraph (a)(1) of this section.

(3) Agency requests for withdrawal of a document on file for public inspection will be accommodated only when the request does not impose a burden on the production of the daily Federal Register.

(4) The originally-filed document will be removed from public inspection on the business day OFR receives the withdrawal letter.

(5) The withdrawing letter will remain on file for public inspection through the date the document would have been published in the Federal Register.

(6) The original document and the withdrawing letter will be retained by the OFR after the public inspection period expires.

(b) Correcting documents. (1) A document that has been filed for public inspection with the OFR, but has not yet published, may be corrected only if the submitting agency certifies that correction is necessary to address an emergency or avert a violation of law.

(2) An agency requesting corrections to a document on file for public inspection must submit a timely letter signed by an authorized representative of the agency certifying that the correction is necessary under paragraph (b)(1) of this section.

(3) Agency correction requests will be accommodated only when the request does not impose a burden on the production of the daily Federal Register.

(4) The originally-filed document will be removed from public inspection at the close of business the day OFR receives the letter requesting corrections.

(5) The letter requesting corrections will remain on file for public inspection through the date the document publishes in the Federal Register.

(6) The original document and the correcting letter will be retained by the OFR after the public inspection period expires.

§ 18.15 Correction of errors in printing.

(a) Typographical or clerical errors made in the printing of the Federal Register will be corrected by insertion of an appropriate notation or a reprinting in the Federal Register published without further agency documentation, if the Director determines that:

(1) The error would tend to confuse or mislead the reader; or

(2) The error would affect text subject to codification.

(b) The issuing agency must review published documents and notify the OFR of printing errors found in published documents.

(c) If the error was in the document as submitted by the agency or certified electronic file submitted with the original document, the issuing agency must prepare and submit a correction document for publication in the Federal Register.

§ 18.16 Reinstatement of expired regulations.

To reinstate expired regulations agencies must republish the regulations in full text in the Federal Register.

§ 18.17 Effective dates and time periods.

(a) Each document submitted for publication in the Federal Register that includes an effective date or time period should either set forth a date certain or a time period measured by a certain number of days after publication in the Federal Register.

(b) When a document sets forth a time period measured by a certain number of days after publication, OFR staff will compute the date to be inserted in the document as set forth in paragraph (c) of this section.

(c) Dates will be computed by counting the day after the publication day as one, and by counting each succeeding day, including Saturdays, Sundays, and Federal holidays. Where the final count would fall on a Saturday, Sunday, or Federal holiday, the date certain will be the next Federal business day.

(d) If an effective date depends on Congressional action, or if an act of Congress or a Federal court decision establishes or changes the effective date of an agency's rule, the issuing agency must promptly publish a document in the “Rules and Regulations” section of the Federal Register announcing the effective date.

(e) To extend the effective period of a temporary rule, agencies must submit a document extending the effective date before the expiration of the original effective date.

§ 18.20 Identification of subjects in agency regulations.

(a) Federal Register documents. Each agency that submits a document for publication in the Rules and Regulations section or the Proposed Rules section of the Federal Register must:

(1) Include a list of index terms for each Code of Federal Regulations part affected by the document; and

(2) Place the list of index terms as the last item in the Supplementary Information portion of the preamble for the document.

(b) Federal Register Thesaurus. To prepare its list of index terms, each agency must use terms contained in the Federal Register Thesaurus of Indexing Terms. Agencies may also include additional terms not contained in the Thesaurus as long as they are appropriate.

13. Revise part 19 to read as follows:

PART 19—EXECUTIVE ORDERS AND PRESIDENTIAL PROCLAMATIONS

Sec.
19.1 Form.
19.2 Routing and approval of drafts.
19.3 Routing and certification of originals and copies.
19.4 Proclamations calling for the observance of special days or events.
19.5 Proclamations of treaties excluded.
19.6 Definition.

Authority: Secs. 1 to 6 of E.O. 11030, 27 FR 5847, 3 CFR, 1959-1963 Comp., p. 610; E.O. 11354, 32 FR 7695, 3 CFR, 1966-1970 Comp., p. 652; and E.O. 12080, 43 FR 42235, 3 CFR, 1978 Comp., p. 224; E.O. 12608, 52 FR 34617, 3 CFR, 1987 Comp., p. 245; E.O. 13403, 71 FR 28543, 3 CFR, 2006 Comp., p. 228.

§ 19.1 Form.

Proposed Executive orders and proclamations shall be prepared in accordance with the following requirements:

(a) The order or proclamation shall be given a suitable title.

(b) The order or proclamation shall contain a citation of the authority under which it is issued.

(c) Punctuation, capitalization, spelling, and other matters of style shall, in general, conform to the most recent edition of the U.S. Government Printing Office Style Manual.

(d) The spelling of geographic names shall conform to the decisions of the Board on Geographic Names, established by section 2 of the Act of July 25, 1947, 61 Stat. 456 (43 U.S.C. 364a).

(e) Descriptions of tracts of land shall conform, so far as practicable, to the most recent edition of the “Specifications for Descriptions of Tracts of Land for Use in Executive Orders and Proclamations,” prepared by the Bureau of Land Management, Department of the Interior.

(f) Proposed Executive orders and proclamations shall be prepared on paper approximately 8½ x 14 inches, shall have a left-hand margin of approximately 1 inch and a right-hand margin of approximately 1 inch, and shall be double-spaced except that quotations, tabulations, and descriptions of land may be single-spaced.

(g) Proclamations issued by the President shall conclude with the following-described recitation:

IN WITNESS WHEREOF, I have hereunto set my hand this _ day of __, in the year of our Lord __, and of the Independence of the United States of America the __.

§ 19.2 Routing and approval of drafts.

(a) A proposed Executive order or proclamation shall first be submitted to the Director of the Office of Management and Budget, together with a letter, signed by the head or other properly authorized officer of the originating Federal agency, explaining the nature, purpose, background, and effect of the proposed Executive order or proclamation and its relationship, if any, to pertinent laws and other Executive orders or proclamations.

(b) If the Director of the Office of Management and Budget approves the proposed Executive order or proclamation, he shall transmit it to the Attorney General for his consideration as to both form and legality.

(c) If the proposed Executive order or proclamation is disapproved by the Director of the Office of Management and Budget or by the Attorney General, it shall not thereafter be presented to the President unless it is accompanied by a statement of the reasons for such disapproval.

§ 19.3 Routing and certification of originals and copies.

(a) If the order or proclamation is signed by the President, the original and two copies shall be forwarded to the Director of the Federal Register for publication in the Federal Register.

(b) The Office of the Federal Register shall cause to be placed upon the copies of all Executive orders and proclamations forwarded as provided in paragraph (a) of this section the following notation, to be signed by the Director or by some person authorized by him to sign such notation: “Certified to be a true copy of the original.”

§ 19.4 Proclamations calling for the observance of special days or events.

Except as may be otherwise provided by law, responsibility for the preparation and presentation of proposed proclamations calling for the observance of special days, or other periods of time, or events, shall be assigned by the Director of the Office of Management and Budget to such agencies as he may consider appropriate. Such proposed proclamations shall be submitted to the Director at least 60 days before the date of the specified observance. Notwithstanding the provisions of § 19.2, the Director shall transmit any approved commemorative proclamations to the President.

§ 19.5 Proclamations of treaties excluded.

Consonant with the provisions of chapter 15 of title 44 of the United States Code (44 U.S.C. 1511), nothing in these regulations shall be construed to apply to treaties, conventions, protocols, or other international agreements, or proclamations thereof by the President.

§ 19.6 Definition.

The term “Presidential proclamations and Executive orders,” as used in chapter 15 of title 44 of the United States Code (44 U.S.C. 1505(a)), shall, except as the President or his representative may hereafter otherwise direct, be deemed to include such attachments thereto as are referred to in the respective proclamations or orders.

PART 20—[REMOVED]

14. Remove part 20.

15. Revise part 21 to read as follows:

PART 21—PREPARATION OF DOCUMENTS FOR CODIFICATION

Subpart A—General
Sec.
21.1 Definitions.
21.2 Codification and amendatory language.
21.6 Notice of expiration of codified material.
21.7 Titles and subtitles.
21.8 Chapters and subchapters.
21.9 Parts, subparts, and undesignated center headings.
21.10 Sections and paragraphs.
21.11 Standard organization of the Code of Federal Regulations.
21.12 Reserving part or section numbers.
21.14 Deviations from standard organization of the Code of Federal Regulations.
21.16 Required document headings.
21.18 Tables of contents.
21.19 Composition of part headings.
21.20 Amendment drafting requirements.
21.21 Internal reference drafting requirements.
21.23 Cross-reference drafting requirements.
21.24 References to 1938 edition of Code of Federal Regulations.
21.30 Effective date statement.
21.35 OMB control numbers.
Subpart B—Citations of Authority
21.40 General authority citation requirements.
21.41 Agency responsibility.
21.42 Placing and amending authority citations.
21.43 Citation to statutory material.
21.44 Citation to nonstatutory materials.
21.45 Exceptions to placement and form.

Authority: 44 U.S.C. 1506; sec. 6, E.O. 10530, 19 FR 2709; 3 CFR, 1954-1958 Comp., p. 189.

Subpart A—General

§ 21.1 Definitions.

As used in this part:

Undesignated center heading means the heading given to a portion of text where the heading has no numerical designation or reference, and appears after the part heading to a group-related section.

Words of issuance are the tie between the document and the CFR units affected and the bridge between the preamble of the document and the regulatory changes.

§ 21.2 Codification and amendatory language.

(a) Each agency that prepares a document that is subject to codification must draft it as an amendment to the Code of Federal Regulations, in accordance with this subchapter, before submitting it to the OFR.

(b) Each agency that prepares a document that is subject to codification must include words of issuance and amendatory language that precisely describe the relationship of the new provisions to the CFR.

§ 21.6 Notice of expiration of codified material.

Whenever a codified regulation expires after a specified period by law or by court order, the issuing agency must submit a rule document for publication in the Federal Register removing the expired regulations.

§ 21.7 Titles and subtitles.

(a) The major divisions of the CFR are titles, each of which brings together broadly related Government functions.

(b)(1) Subtitles may be used to distinguish between materials emanating from an overall agency and the material issued by its various components.

(2) Subtitles may also be used to group chapters within a title.

§ 21.8 Chapters and subchapters.

(a) The normal divisions of a title are chapters, assigned to the various agencies within a title descriptive of the subject matter covered by the agencies' regulations.

(b) Subchapters may be used to group related parts within a chapter.

(c) Chapter and subchapter assignments are made by the OFR after agency consultation.

§ 21.9 Parts, subparts, and undesignated center headings.

(a) The normal divisions of a chapter are parts, consisting of a unified body of regulations applying to a specific function or program of an issuing agency or devoted to specific subject matter under the control of that agency.

(b)(1) Subparts or undesignated center headings may be used to group related sections within a part.

(2) Undesignated center headings may also be used to group sections within a subpart.

§ 21.10 Sections and paragraphs.

(a) The normal divisions of a part are sections. Sections are the basic units of the CFR.

(b) A section may be divided into paragraphs. Paragraphs may be further subdivided using the system provided in § 21.11 of this part.

§ 21.11 Standard organization of the Code of Federal Regulations.

The standard organization consists of the following structural units:

(a) Titles are numbered consecutively using Arabic numerals throughout the CFR;

(b) Subtitles are lettered consecutively using capital letters throughout the title;

(c) Chapters are numbered consecutively using capitalized Roman numerals throughout each title;

(d) Subchapters are lettered consecutively using capital letters throughout the chapter;

(e) Parts are numbered using Arabic numerals throughout each title;

(f) Subparts are lettered using capital letters;

(g)(1) Sections are numbered using Arabic numerals throughout each part.

(2) A section number includes the number of the part followed by a period and the number of the section. For example, the section number for section 15 of part 21 is “§ 21.15”; and

(h) Paragraphs are designated as follows:

(1) Level 1: (a), (b), (c), etc.

(2) Level 2: (1), (2), (3), etc.

(3) Level 3: (i), (ii), (iii), etc.

(4) Level 4: (A), (B), (C), etc.

§ 21.12 Reserving part or section numbers.

Chapters or structural units within chapters may be reserved to allow for expansion.

§ 21.14 Deviations from standard organization of the Code of Federal Regulations.

(a) The Director may approve a deviation from standard Code of Federal Regulations designations.

(b) Agencies must submit written requests for approval, along with a draft copy of the document, at least ten Federal business days before the agency intends to submit the document for publication.

(c) The Director may allow section numbers to correspond to a particular numbering system requested by an agency only if the alternative numbering system will benefit the public.

§ 21.16 Required document headings.

Each section in the regulatory text of the document must have a brief descriptive heading, preceding the text, on a separate line.

§ 21.18 Tables of contents.

(a) A table of contents must be used at the beginning of the part whenever:

(1) A new part is introduced;

(2) An existing part is completely revised; or

(3) A group of sections is revised or added and set forth as a subpart or otherwise separately grouped under a center head.

(b) The table of contents follows the part heading before the text of the regulations in that part.

(c) The table of contents lists the headings for the subparts, undesignated center headings, sections in the part, and appendix headings to the part and subpart, as applicable.

§ 21.19 Composition of part headings.

(a) Each part heading indicates briefly the general subject matter of the part.

(b) Phrases that are not descriptive of the subject matter, such as “Regulations under the Act of July 28, 1955” or other expressions, may not be used.

(c) Non-descriptive introductory expressions such as “Regulations governing” and “Rules applicable to” may not be used.

§ 21.20 Amendment drafting requirements.

(a) Each document that amends or includes regulatory text that proposes to amend the CFR must identify in specific terms the unit amended and the extent of the changes made.

(b) The number and heading of each section amended must be set forth in full on a separate line.

§ 21.21 Internal reference drafting requirements.

(a)(1) Each reference to the Code of Federal Regulations must be in terms of the specific titles, chapters, parts, sections, and paragraphs involved.

(2) Ambiguous references such as “herein,” “above,” “below,” “now,” “today,” and similar expressions may not be used.

(b) Each document that contains a reference to material published in the CFR must include the CFR citation as a part of the reference.

§ 21.23 Cross-reference drafting requirements.

(a) Each agency publishes its own regulations in full text in the Code of Federal Regulations.

(b) Cross-references to the regulations of another agency may not be used as a substitute for publication in full text, unless the OFR finds that the regulation meets any of the following exceptions:

(1) The reference is required by court order, statute, Executive order or reorganization plan.

(2) The reference is to regulations promulgated by an agency with the exclusive legal authority to regulate in a subject matter area, but the referencing agency needs to apply those regulations in its own programs.

(3) The reference is informational or improves clarity rather than being regulatory.

(4) The reference is to Federal agency-produced test methods or standards that have replaced or preempted private sector-produced voluntary test methods or consensus standards in a subject matter area and the referenced Federal agency test methods or standards are published in full in the CFR.

(5) The reference is to the Department level from a subagency.

§ 21.24 References to 1938 edition of Code of Federal Regulations.

When reference is made to material codified in the 1938 edition of the Code of Federal Regulations, or a supplement thereto, the following forms may be used, as appropriate:

_ CFR, 1938 Ed., _.

_ CFR, 1943, Cum. Supp., _.

_ CFR, 1946 Supp., _.

§ 21.30 Effective date statement.

Each document subject to codification must include a clear statement as to the date or dates upon which its contents become effective following the procedures found in § 18.17 of this subchapter.

§ 21.35 OMB control numbers.

To display required OMB control numbers in agency regulations, those numbers must be placed parenthetically at the end of the section or displayed in a table or codified section.

Subpart B—Citations of Authority

§ 21.40 General authority citation requirements.

(a) Each section subject to codification in a document must include a complete citation of the authority under which the section is issued, including:

(1) General or specific authority delegated by statute; and

(2) Executive delegations, if any, necessary to link the statutory authority to the issuing agency.

(b) Formal citations of authority must be in the shortest citation format for easy reference.

(c) The OFR will assist agencies in developing model citations.

§ 21.41 Agency responsibility.

(a) Each issuing agency is responsible for the accuracy and integrity of the citations of authority in the documents it issues.

(b) Each issuing agency must formally amend the citations of authority in its codified material to reflect any changes.

§ 21.42 Placing and amending authority citations.

(a) The agency must publish a centralized authority citation in the CFR.

(1) The authority citation must appear at the end of the table of contents for a part or after each subpart heading within the text of a part.

(2) Citations of authority for particular sections may be specified within the centralized authority citation.

(b) The requirements for placing authority citations in a document published in the Federal Register vary with the type of amendment the agency is making in a document. The agency must set out the full text of the authority citation for each part affected by the document.

(1) If a document sets out an entire part of the CFR, the agency must place the complete authority citation directly after the table of contents and before the regulatory text.

(2) If a document amends only certain sections within a CFR part, the agency must place the complete authority citation to this part as the first item in the list of amendments.

(i) If the authority for issuing an amendment is the same as the authority listed for the whole part of the CFR, the agency must restate the authority.

(ii) If the authority for issuing an amendment changes the authority citation for the whole part of the CFR, the agency must revise the authority citation in its entirety. The agency may specify the particular authority under which certain sections are amended in the revised authority citation.

(c) Citation in the CFR to a nonstatutory document as authority must be placed after the statutory citations.

§ 21.43 Citation to statutory material.

(a) United States Code. All citations to statutory authority must include a United States Code citation, where available. Citations to titles of the United States Code may be cited without Public Law or U.S. Statutes at Large citation. For example:

Authority: 10 U.S.C. 501.

(b) Public Laws and U.S. Statutes at Large. (1) Citations to Public Laws and U.S. Statutes at Large are optional when the United States Code is cited.

(2) Citations to current Public Laws and to the U.S. Statutes at Large must refer to the section of the Public Law and the volume and page of the U.S. Statutes at Large to which they have been assigned. The page number must refer to the page on which the section cited begins. For example:

Authority: Sec. 5, Pub. L. 89-670, 80 Stat. 935 (49 U.S.C. 1654); sec. 313, Pub. L. 85-726, 72 Stat. 752 (49 U.S.C. 1354).

§ 21.44 Citation to nonstatutory materials.

(a) Form. Nonstatutory documents must be cited by document designation and by Federal Register volume and page, followed, if possible, by the parallel citation to the Code of Federal Regulations. For example:

Authority: Special Civil Air Reg. SR-422A, 28 FR 6703, 14 CFR part 4b; E.O. 11130, 28 FR 12789; 3 CFR 1959-1963 Comp.

(b) Placement. Citation to a nonstatutory document as authority must be placed after the statutory citations. For example:

Authority: Sec. 9, Pub. L. 89-670, 80 Stat. 944 (49 U.S.C. 1657). E.O. 11222, 30 FR 6469, 3 CFR, 1965 Comp., p. 10.

§ 21.45 Exceptions to placement and form.

The Director may make exceptions to the requirements of this subpart relating to placement and form of citations of authority.

16. Revise part 22 to read as follows:

PART 22—PREPARATION OF PROPOSED RULES

Sec.
22.1 General requirements.
22.2 Code designation.
22.3 Proposed codification.

Authority: 44 U.S.C. 1506; sec. 6, E.O. 10530, 19 FR 2709; 3 CFR, 1954-1958 Comp., p. 189.

§ 22.1 General requirements.

Each proposed rule required by section 553 of title 5, United States Code, or any other statute, and any similar document voluntarily issued by an agency must include a statement of:

(a) The time, place, and nature of public rulemaking proceedings; and

(b) Reference to the authority under which the regulatory action is proposed.

§ 22.2 Code designation.

The area of the Code of Federal Regulations directly affected by a proposed regulatory action must be identified by placing the appropriate Code citation immediately below the name of the issuing agency.

§ 22.3 Proposed codification.

Any part of a proposed rule document that contains the full text of a proposed regulation must conform to part 21 of this subchapter, except for § 21.30.

17. Add part 23 to read as follows:

PART 23—PREPARATION OF NOTICES AND REGULATORY NOTICES

Sec.
23.1 Exception to required document headings.
23.2 Authority citation.

Authority: 44 U.S.C. 1506; sec. 6, E.O. 10530, 19 FR 2709; 3 CFR, 1954-1958 Comp., p. 189.

§ 23.1 Exception to required document headings.

Documents are not required to have numerical references to the title and parts of the CFR affected.

§ 23.2 Authority citation.

The authority under which an agency issues a notice must be cited in narrative form within text or in parentheses on a separate line following text.

18. Add part 24 to read as follows:

PART 24—HANDLING OF THE UNITED STATES GOVERNMENT MANUAL STATEMENTS

Sec.
24.1 Liaison officers.
24.2 Preparation of agency statements.
24.3 Information about an organization.
24.4 Description of program activities.
24.5 Sources of information.
24.6 Form, style, arrangement and apportionment of space.
24.7 Deadline dates.

Authority: 44 U.S.C. 1506; sec. 6, E.O. 10530, 19 FR 2709; 3 CFR, 1954-1958 Comp., p. 189.

§ 24.1 Liaison officers.

(a) Each of the following must appoint an officer to maintain liaison with the OFR on matters relating to The United States Government Manual:

(1) Agencies of the legislative and judicial branches.

(2) Executive agencies that do not have a liaison officer designated under § 16.1 of this chapter or who wish to appoint a liaison officer for Manual matters other than the one designated under such § 16.1.

(3) Quasi-official agencies represented in the Manual.

(4) Any other agency that the Director believes should be included in the Manual.

(b) Each liaison officer will ensure agency compliance with part 9 of this chapter, and this part.

§ 24.2 Preparation of agency statements.

In accordance with schedules established under § 24.7 of this part, each agency must submit an official draft of the information required by § 9.2 of this chapter and this part.

§ 24.3 Information about an organization.

(a) Information about lines of authority and organization may be reflected in a chart if the chart clearly delineates the agency's organizational structure.

(b) Listings of heads of operating units should be arranged whenever possible to reflect relationships between units.

(c) Narrative descriptions of organizational structure or hierarchy that duplicate information conveyed by charts or by lists of officials will not be published in the Manual.

§ 24.4 Description of program activities.

(a) Descriptions should clearly state the public purposes that the agency serves, and the programs that carry out those purposes.

(b) Descriptions of the responsibilities of individuals or of administrative units common to most agencies will not be accepted for publication in the Manual.

§ 24.5 Sources of information.

Each agency statement should include pertinent sources of information useful to the public, covering areas such as employment, consumer activities, contracts, services to small business, and other topics of public interest. These sources of information must plainly identify the places where the public may obtain information or make submittals or requests.

§ 24.6 Form, style, arrangement, and apportionment of space.

(a) The Director determines the form, style, arrangement, and space apportionment of agency statements and other materials included in the Manual.

(b) Agencies must use the U.S. Government Printing Office Style Manual to determine style.

§ 24.7 Deadline dates.

Agencies must promptly notify the Director of major organizational changes and comply with periodic deadlines set by the OFR for agency statements, charts, and other materials to be included in the Manual. Failure to do so may result in publication of an outdated statement or the omission of important material.

By Order of the Committee.
Charles A. Barth,
Secretary, Administrative Committee of the Federal Register.

[FR Doc. 2014-25520 Filed 10-27-14; 8:45 am]

BILLING CODE 1505-02-P